DEPARTMENT OF JUSTICE

[OMB Number 1122-4NEW]

Agency Information Collection Activities; Proposed eCollection eComments Requested; New Collection; Semi-Annual Performance Reporting Form for Financial Assistance Grants for Victims of Sexual Assault, Domestic Violence, Dating Violence, and Stalking Program (FAV Program)

AGENCY: Office on Violence Against Women, Department of Justice.

ACTION: 60-Day notice.

SUMMARY: The Office on Violence Against Women, Department of Justice, will be submitting the following information collection request to the Office of Management and Budget for review and approval in accordance with the Paperwork Reduction Act of 1995.

DATES: Comments are encouraged and will be accepted for 60 days until January 20, 2026.

FOR FURTHER INFORMATION CONTACT: If you have additional comments especially on the estimated public burden or associated response time, suggestions, or need a copy of the proposed information collection instrument with instructions or additional information, please contact Tiffany Watson, Office on Violence Against Women, at 202-307-6026 or Tiffany.Watson@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW) administers the Financial Assistance Grants for Victims of Sexual Assault, Domestic Violence, Dating Violence, and Stalking Program (FAV Program). The FAV Program supports victim service providers, Tribal governments, and Tribal organizations to provide flexible financial assistance to survivors of sexual assault, domestic violence, dating violence, and stalking, alongside other victim services. Flexible financial assistance is intended to support survivors in achieving safety, stability, and healing by paying for necessities that are not easily met by traditional service providers and with the flexibility to meet self-identified needs quickly. For Fiscal Year (FY) 2025, OVW sent a Letter of Interest to entities that had the highest scoring applications not selected for FY 2024 FAV Program funding and that are located in a state where no FAV Program awards were issued last year. Based on responses and available funding, OVW invited 13 applicants to apply for FY 2025 FAV Program funding.

Overview of This Information Collection

1. Type of Information Collection: New collection.

2. Title of the Form/Collection: Semi-annual Performance Reporting Form for Financial Assistance Grants for Victims of Sexual Assault, Domestic Violence, Dating Violence, and Stalking Program (FAV Program).

3. Agency form number, if any, and the applicable component of the Department of Justice sponsoring the collection: Form Number: 1122-XXXX. U.S. Department of Justice, Office on Violence Against Women.

4. Affected public who will be asked or required to respond: Grantees from the FAV Program, which includes victim service providers, Tribal governments, and Tribal organizations.

5. An estimate of the total number of respondents and the amount of time estimated for an average respondent to respond/reply: It is estimated that it will take approximately 16 respondents, who are FAV Program grantees, approximately one hour to complete a performance reporting form that addresses the activities for which they receive funding. In addition, a grantee will only be required to complete the sections of the form that pertain to those specific activities that are supported by their FAV Program funding and permissible under the authorizing legislation.

6. An estimate of the total public burden (in hours) associated with the collection: The total hour burden to complete the data collection form is 32 hours, that is 16 grantees completing a form twice a year with an estimated completion time for the form being one hour.

7. An estimate of the total annual cost burden associated with the collection, if applicable: The annualized costs to the Federal Government resulting from the OVW staff review of the progress reports submitted by grantees are estimated to be $1,855.00.

8. Total Burden Hours:

Activity | Estimated number of respondents | Frequency | Total annual responses | Time per response (hour) | Total annual burden (hours)
Performance Reporting Form | 16 | Semi-annually | 2 times | 1 | 32
Total |  |  |  |  | 32

If additional information is required contact: Darwin Arceo, Department Clearance Officer, United States Department of Justice, Justice Management Division, Enterprise Portfolio Management, Two Constitution Square, 145 N Street NE, 4W-218, Washington, DC.

Dated: November 19, 2025.
Darwin Arceo,
Department Clearance Officer for PRA, U.S. Department of Justice.

[FR Doc. 2025-20588 Filed 11-20-25; 8:45 am]

BILLING CODE 4410-FX-P